SOCIAL SECURITY ADMINISTRATION

[Docket No. SSA-2021-0025]

Request for Information on Potential Disability Insurance and Supplemental Security Income Demonstrations

AGENCY: Social Security Administration.

ACTION: Notice; request for information.

SUMMARY: We administer the Disability Insurance (DI) and Supplemental Security Income (SSI) programs to provide income support to people with disabilities. The Commissioner of Social Security is authorized to test new program rules to promote attachment to the labor force and increase the employment and self-sufficiency of individuals receiving or applying for DI or SSI benefits, including children and youth; and to coordinate planning between private and public welfare agencies to improve the administration and effectiveness of the DI, SSI, and related programs. This request for information (RFI) seeks public input on potential services, supports, or DI and SSI policy changes that could achieve these goals. The input we receive will inform our deliberations about possible future demonstrations and tests. We will also use the responses as reference material as we provide Congress technical advice regarding any potential renewal of the section 234 authorization.

DATES: To ensure that your comments are considered, we must receive them no later than November 16, 2021.

ADDRESSES: You may submit comments by any one of three methods—internet, fax, or mail. Do not submit the same comments multiple times or by more than one method. Regardless of which method you choose, please state that your comments refer to Docket No. SSA-2021-0025 so that we may associate your comments with the correct Federal Register notice.

Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2021-0025 and then submit your comments. The system will issue you a tracking number to confirm your submission. You will not be able to view your comments immediately because we must post each submission manually. It may take up to a week for your comments to be viewable.

2. Fax: Fax comments to (410) 966-2830.

3. Mail: Mail your comments to the Office of Regulations and Reports Clearance, Social Security Administration, 3100 West High Rise Building, 6401 Security Boulevard, Baltimore, Maryland, 21235-6401.

Comments are available for public viewing on the Federal eRulemaking portal at http://www.regulations.gov or in person, during regular business hours, by arranging with the contact person identified below.

FOR FURTHER INFORMATION CONTACT: Jeffrey Hemmeter, Acting Deputy Associate Commissioner for Research, Demonstration, and Employment Support, Office of Retirement and Disability Policy, Social Security Administration, 6401 Security Boulevard, Baltimore, MD 21235-6401, (410) 597-1815, for information about this notice. For information on eligibility or filing for benefits, call our national toll-free number, 1-800-772-1213 or TTY 1-800-325-0778, or visit our internet site, Social Security Online, at http://www.socialsecurity.gov.

SUPPLEMENTARY INFORMATION:

Purpose

Social Security pays benefits to more than 12 million adults ages 18 to 64 who are unable to work due to a disability ¹ and to more than 1 million children with limited income and assets who have marked and severe functional limitations.² The Commissioner of Social Security is authorized to test new program rules to promote the labor force and increase the employment and self-sufficiency of individuals receiving or applying for DI or SSI benefits, including children and youth, and to coordinate planning between private and public welfare agencies to improve the administration and effectiveness of the DI, SSI, and related programs. This RFI offers interested parties, including States, community-based and other non-profit organizations, philanthropic organizations, researchers, and members of the public, the opportunity to provide information and recommendations on effective approaches for achieving these goals.

¹ https://www.ssa.gov/policy/docs/statcomps/ssi_asr/2019/sect03.html.

² https://www.ssa.gov/policy/docs/statcomps/ssi_asr/2019/sect04.html#table17.

Background

We conduct demonstration projects under two authorities. Section 234 of the Social Security Act (Act) allows the Commissioner to test changes to the DI program designed to promote attachment to the labor force.³ Section 234(d)(2) of the Act provides that the authority to initiate projects under section 234 terminates on December 31, 2021, and the authority to carry out such projects terminates on December 31, 2022, Second, Section 1110(a) of the Act allows us to enter into contracts, grants, and agreements to study a variety of topics related to reducing dependency on SSI, coordinating of social services, or improving the administration of our programs, while section 1110(b) of the Act allows us to waive SSI program rules to carry out such demonstrations in the course of conducting projects that are likely to assist in promoting the objectives or facilitate the administration of title XVI of the Act.⁴ Participants in demonstrations conducted under section 234 or section 1110(b) must be volunteers who provide informed written consent and are capable of withdrawing their agreement to participate at any time.⁵ In addition, SSI demonstrations cannot result in a substantial reduction in any individual's income because he or she participated in a demonstration. These authorities also include additional reporting and scope restrictions. We produce an annual report to Congress on current and recently completed demonstrations ⁶ and maintain public web pages with demonstration reports.7 8

³ Section 234 of the Act, 42 U.S.C. 434. https://www.ssa.gov/OP_Home/ssact/title02/0234.htm.

⁴ Section 1110(a) and (b) of the Act, 42 U.S.C. 1310(a) and (b). https://www.ssa.gov/OP_Home/ssact/title11/1110.htm.

⁵ Section 234(e)(1) of the Act, 42 U.S.C. 434(e)(1).

⁶ https://www.ssa.gov/disabilityresearch/documents/Section%20234%20Report%202020.pdf.

⁷ https://www.ssa.gov/disabilityresearch/demos.htm.

⁸ https://www.ssa.gov/disabilityresearch/projects.htm.

Request for Information

Through this notice, we are soliciting suggestions for potential policy changes and services related to supporting DI beneficiaries, SSI recipients, and disability program applicants in their efforts to return to, remaining in, or enter the labor force. We are also soliciting suggestions for other potential demonstrations. Responses to this request may inform our decisions about future demonstrations and how to design such projects. This notice is for our internal planning purposes only and should not be construed as a solicitation or as an obligation on our part or on the part of any participating Federal agencies. For each proposed idea, please be as clear as possible about:

1. The specific policy goal (e.g., increased labor force participation);

2. The target population (e.g., youth, denied applicants, potential applicants, new beneficiaries, older applicants);

3. The specific statute, regulation, or other policy being suggested for change, if any;

4. The proposed service;

5. The specific reason why the policy change or service is expected to achieve the policy goal for the target population (if available, logic models, theories of change, or other aids and evidence supporting the proposed policy change or service should be included);

6. The specific partnerships (e.g., Department of Labor, State Departments of Education, private employers, legal aid agencies), if any, we should consider to implement the demonstration; and

7. Any changes to our demonstration authorities that would be necessary to test the policy change or service.

Guidance for Submitting Documents

We ask that each respondent include the name and address of his or her institution or affiliation, if any, and the name, title, mailing and email addresses, and telephone number of a contact person for his or her institution or affiliation, if applicable.

Rights to Materials Submitted

By submitting material in response to this notice, you agree to grant us a worldwide, royalty-free, perpetual, irrevocable, nonexclusive license to use the material and to post it publicly. Further, you agree that you own, have a valid license, or are otherwise authorized to provide the material to us. In your response to this notice, you should not provide personally identifiable information or any material you consider confidential or proprietary. We will not provide any compensation for material submitted in response to this notice.

The Acting Commissioner of Social Security, Kilolo Kijakazi, having reviewed and approved this document, has delegated the authority to electronically sign this document to Faye I. Lipsky, who is the primary Federal Register Liaison for SSA, for purposes of publication in the Federal Register.

Faye I. Lipsky,
Federal Register Liaison, Office of Legislation and Congressional Affairs, Social Security Administration.

[FR Doc. 2021-20158 Filed 9-16-21; 8:45 am]

BILLING CODE 4191-02-P